DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 29, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title Servicing Minor Program Loans.

OMB Control Number: 0560-0230.

Summary of Collection: The Farm Service Agency (FSA) is conducting this revision due to Executive Order 14058 issued by the White House, that tasked the Secretary of Agriculture with simplifying the direct loan application process; so this collection was affected. FSA Farm Loan Program staff provides supervised credit in the form of loans to family farmers and ranchers to purchase land and finance agricultural production. Regulations are promulgated to implement selected provisions of sections 331 and 335 of the Consolidated Farm and Rural Development Act (CONACT). FSA is authorized under the Section 331 to grant releases from personal liability where security property is transferred to approve applicants who, under agreement, assume the outstanding secured indebtedness and to provide servicing authority covered in the Section 335 for real estate security; operation or lease of realty, disposition of surplus property; conveyance of complete interest of the United States; easements; and condemnations. The information is also collected from FSA Minor Program borrowers who may be individual farmers or farming partnerships, associations, or corporations.

Need and Use of the Information: FSA will collect information related to a program benefit recipient or loan borrower requesting action on security they own, which was purchased with FSA loan funds, improved with FSA loan funds or has otherwise been mortgaged to FSA to secure a government loan. The information collected is primarily financial data, such as borrower's asset values, current financial information and public use and employment data. The information collection will be used solely by the Farm Loan Programs in FSA. Failure to obtain this information at the time of the request for servicing will result in rejection of the borrower's request.

Description of Respondents: Farms; Individuals or households; Business or other-for-profit; Not-for-profit institutions; State. Local and Tribal Government.

Number of Respondents: 58.

Frequency of Responses: Reporting: On occasion; Annually.

Total Burden Hours: 37.

Farm Service Agency

Title: 7 CFR 765, Direct Loan Servicing—Regular.

OMB Control Number: 0560-0236.

Summary of Collection: FSA is conducting this revision due to Executive Order 14058 issued by the White House, that tasked the Secretary of Agriculture with simplifying the direct loan application process; this collection was affected. Authority to establish the regulatory requirements contained in 7 CFR 765 is provided under 5 U.S.C. 301, which provides that “The Head of an Executive department or military department may prescribe regulations for the government of his department, the distribution and performance of its business. . .” The Secretary delegated authority to administer the provisions of the applicable to the Farm Loan Program (FLP) to the Under Secretary for Farm and Foreign Agricultural Service in section 2.16 of 7 CFR part 2. FLP provides loans to family farmers to purchase real estate equipment and finance agricultural production. The regulations covered by this information collection request describes, the policies and procedures FLP uses to service most FLP loans to ensure borrowers are meeting the requirements of their loan agreements.

Need and Use of the Information: Information requested under this collection is submitted by borrowers to the local agency office serving the county in which their business is headquartered. The information is used by FLP to manage application of proceeds from the sale of agency security, consider whether a borrower is in compliance with their loan covenants, assist the borrower in achieving their business goals, conduct day-to-day management of the agency's loan portfolio, and ensure that the agency's interests are protected. Failure to collect the information or collecting it less frequently could result in the failure of the farm operation or loss of agency security property or position.

Description of Respondents: Business or other for-profit; farms.

Number of Respondents: 94,591.

Frequency of Responses: Reporting: On occasion; annually.

Total Burden Hours: 30,550.

Ruth Brown,
Departmental Information Collection Clearance Officer.

[FR Doc. 2022-26034 Filed 11-28-22; 8:45 am]

BILLING CODE 3410-05-P